DEPARTMENT OF TRANSPORTATION

Federal Aviation Administration

14 CFR Part 39

[Docket No. FAA-2022-0383; Project Identifier MCAI-2022-00264-T; Amendment 39-21998; AD 2022-07-10]

RIN 2120-AA64

Airworthiness Directives; Airbus SAS Airplanes

AGENCY: Federal Aviation Administration (FAA), DOT.

ACTION: Final rule; request for comments.

SUMMARY: The FAA is adopting a new airworthiness directive (AD) for all Airbus SAS Model A350-941 and -1041 airplanes. This AD was prompted by a report that certain overheat detection system (OHDS) sensing elements may not properly detect thermal bleed leak events due to a quality escape during the manufacturing process. This AD requires revising the operator's existing FAA-approved minimum equipment list (MEL) to include dispatch restrictions as specified in a European Union Aviation Safety Agency (EASA) AD, which is incorporated by reference. This AD also prohibits the installation of affected parts. This AD also allows operators to inspect affected parts for discrepancies, and do applicable replacements, in order to terminate the revision of the operator's existing MEL required by this AD. The FAA is issuing this AD to address the unsafe condition on these products.

DATES: This AD becomes effective April 20, 2022.

The Director of the Federal Register approved the incorporation by reference of certain publications listed in this AD as of April 20, 2022.

The FAA must receive comments on this AD by May 20, 2022.

ADDRESSES: You may send comments, using the procedures found in 14 CFR 11.43 and 11.45, by any of the following methods:

• Federal eRulemaking Portal: Go to https://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For EASA material incorporated by reference (IBR) in this AD, contact EASA, Konrad-Adenauer-Ufer 3, 50668 Cologne, Germany; telephone +49 221 8999 000; email ADs@easa.europa.eu; internet www.easa.europa.eu. You may find this IBR material on the EASA website at https://ad.easa.europa.eu. For Kidde Aerospace & Defense service information identified in this final rule, contact Kidde Aerospace & Defense, 4200 Airport Drive NW, Building B, Wilson, NC 27896; telephone: 319-295-5000; internet: https://kiddetechnologies.com/aviation.com. You may view this material at the FAA, Airworthiness Products Section, Operational Safety Branch, 2200 South 216th St., Des Moines, WA. For information on the availability of this material at the FAA, call 206-231-3195. It is also available in the AD docket at https://www.regulations.gov by searching for and locating Docket No. FAA-2022-0383.

Examining the AD Docket

You may examine the AD docket at https://www.regulations.gov by searching for and locating Docket No. FAA-2022-0383; or in person at Docket Operations between 9 a.m. and 5 p.m., Monday through Friday, except Federal holidays. The AD docket contains this AD, the mandatory continuing airworthiness information (MCAI), any comments received, and other information. The street address for Docket Operations is listed above.

FOR FURTHER INFORMATION CONTACT: Dan Rodina, Aerospace Engineer, Large Aircraft Section, FAA, International Validation Branch, 2200 South 216th St., Des Moines, WA 98198; telephone 206-231-3225; email dan.rodina@faa.gov.

SUPPLEMENTARY INFORMATION:

Comments Invited

The FAA invites you to send any written data, views, or arguments about this final rule. Send your comments to an address listed under ADDRESSES. Include “Docket No. FAA-2022-0383; Project Identifier MCAI-2022-00264-T” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to https://www.regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Dan Rodina, Aerospace Engineer, Large Aircraft Section, FAA, International Validation Branch, 2200 South 216th St., Des Moines, WA 98198; telephone 206-231-3225; email dan.rodina@faa.gov. Any commentary that the FAA receives which is not specifically designated as CBI will be placed in the public docket for this rulemaking.

Background

EASA, which is the Technical Agent for the Member States of the European Union, has issued EASA AD 2022-0031, dated February 25, 2022 (EASA AD 2022-0031) (also referred to as the MCAI), to correct an unsafe condition for all Airbus SAS Model A350-941 and -1041 airplanes.

This AD was prompted by a report that certain OHDS sensing elements may not properly detect thermal bleed leak events due to a quality escape during the manufacturing process. The FAA is issuing this AD to address undetected thermal bleed leak events that might not be isolated during flight, possibly resulting in localized areas of the wing structure being exposed to high temperatures and consequent reduced structural integrity of the airplane. See the MCAI for additional background information.

Related Service Information Under 1 CFR Part 51

EASA AD 2022-0031 specifies procedures for revising the operator's existing MEL to include dispatch restrictions (which, depending on the configuration, includes limiting the number of inoperative days for the OHDS sensing element or requiring certain checks in order to be inoperative) for Airbus A350 Master Minimum Equipment List (MMEL) item 36-22-01, “Air Leak Detection Redundancy.” EASA AD also specifies procedures for a detailed inspection of the affected OHDS sensing elements for discrepancies (i.e., the related electronic centralized aircraft monitoring (ECAM) alert is not displayed after a heat gun test is done), and applicable replacements (which is not required by this AD, as discussed under “Differences Between this AD and the MCAI).” EASA AD 2022-0031 also prohibits the installation of affected parts.

Kidde Aerospace & Defense Service Bulletin CFD-26-3, dated January 13, 2022, identifies affected OHDS sensing elements (those having certain part numbers and corresponding date codes).

This material is reasonably available because the interested parties have access to it through their normal course of business or by the means identified in the ADDRESSES section.

FAA's Determination

This product has been approved by the aviation authority of another country and is approved for operation in the United States. Pursuant to the FAA's bilateral agreement with this State of Design Authority, it has notified the FAA of the unsafe condition described in the MCAI described above. The FAA is issuing this AD after determining that the unsafe condition described previously is likely to exist or develop on other products of the same type design.

Requirements of This AD

This AD requires accomplishing the actions specified in EASA AD 2022-0031 described previously, except for any differences identified as exceptions in the regulatory text of this AD and except as discussed under “Differences Between this AD and the MCAI.”

EASA AD 2022-0031 requires operators to “inform all flight crews” of revisions to the operator's existing MMEL, and thereafter to “operate the aeroplane accordingly.” However, this AD does not specifically require those actions as they are already required by FAA regulations.

FAA regulations (14 CFR 121.628(a)(2)) require operators to provide pilots with access to all of the information contained in the operator's existing MEL. Furthermore, 14 CFR 121.628(a)(5) requires airplanes to be operated under all applicable conditions and limitations contained in the operator's existing MEL. Therefore, including a requirement in this AD to operate the airplane according to the revised MEL would be redundant and unnecessary.

Explanation of Required Compliance Information

In the FAA's ongoing efforts to improve the efficiency of the AD process, the FAA developed a process to use some civil aviation authority (CAA) ADs as the primary source of information for compliance with requirements for corresponding FAA ADs. The FAA has been coordinating this process with manufacturers and CAAs. As a result, EASA AD 2022-0031 is incorporated by reference in this AD. This AD requires compliance with EASA AD 2022-0031 in its entirety through that incorporation, except for any differences identified as exceptions in the regulatory text of this AD. Using common terms that are the same as the heading of a particular section in EASA AD 2022-0031 does not mean that operators need comply only with that section. For example, where the AD requirement refers to “all required actions and compliance times,” compliance with this AD requirement is not limited to the section titled “Required Action(s) and Compliance Time(s)” in EASA AD 2022-0031. Service information required by EASA AD 2022-0031 for compliance will be available at https://www.regulations.gov by searching for and locating Docket No. FAA-2022-0383 after this AD is published.

Differences Between This AD and the MCAI

EASA AD 2022-0031 requires an inspection of affected parts for discrepancies within 36 months, and replacing discrepant parts. However, the planned compliance time for the inspection would allow enough time to provide notice and opportunity for prior public comment on the merits of the inspection. Therefore, the FAA is considering further rulemaking to require the inspection and replacement. This AD does not mandate that inspection, instead making it an optional action in this AD. Accomplishing the inspection, and applicable replacements, will constitute terminating action for the revision of the operator's existing MEL required by this AD. The terminating action is specified in paragraph (5) of EASA AD 2022-0031.

FAA's Justification and Determination of the Effective Date

Section 553(b)(3)(B) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

An unsafe condition exists that requires the immediate adoption of this AD without providing an opportunity for public comments prior to adoption. The FAA has found that the risk to the flying public justifies forgoing notice and comment prior to adoption of this rule because undetected thermal bleed leak events that might not be isolated during flight could result in localized areas of the wing structure being exposed to high temperatures and consequent reduced structural integrity of the airplane. The OHDS sensing elements are critical to continued airworthiness of the airplane because an undetected hot air leak might lead to permanent damage to the surrounding loaded structure. Additionally, the revision of the operator's existing MEL required by this AD must be done within 30 days in order to address the unsafe condition. Accordingly, notice and opportunity for prior public comment are impracticable and contrary to the public interest pursuant to 5 U.S.C. 553(b)(3)(B).

In addition, the FAA finds that good cause exists pursuant to 5 U.S.C. 553(d) for making this amendment effective in less than 30 days, for the same reasons the FAA found good cause to forgo notice and comment.

Regulatory Flexibility Act (RFA)

The requirements of the RFA do not apply when an agency finds good cause pursuant to 5 U.S.C. 553 to adopt a rule without prior notice and comment. Because the FAA has determined that it has good cause to adopt this rule without notice and comment, RFA analysis is not required.

Costs of Compliance

The FAA estimates that this AD affects 29 airplanes of U.S. registry. The FAA estimates the following costs to comply with this AD:

Estimated Costs for Required Actions
Labor cost | Parts cost | Cost per product | Cost on U.S. operators
1 work-hour × $85 per hour = $85 | $0 | $85 | $2,465

Estimated Costs for Optional Actions
Labor cost | Parts cost | Cost per product
13 work-hours × $85 per hour = $1,105 | $0 | $1,105

The FAA estimates the following costs to do any necessary on-condition action that would be required based on the results of any optional actions. The FAA has no way of determining the number of aircraft that might need this on-condition action:

Estimated Costs of On-Condition Actions
Labor cost | Parts cost | Cost per product
1 work-hours × $85 per hour = $85 | * $0 | * $85
* The FAA has received no definitive data on the parts cost.

According to the parts manufacturer, some or all of the costs of this AD may be covered under warranty, thereby reducing the cost impact on affected operators. The FAA does not control warranty coverage for affected operators. As a result, the FAA has included all known costs in the cost estimate.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2022-07-10 Airbus SAS: Amendment 39-21998; Docket No. FAA-2022-0383; Project Identifier MCAI-2022-00264-T.

(a) Effective Date

This airworthiness directive (AD) is effective April 20, 2022.

(b) Affected ADs

None.

(c) Applicability

This AD applies to all Airbus SAS Model A350-941 and -1041 airplanes, certificated in any category.

(d) Subject

Air Transport Association (ATA) of America Code 36, Pneumatic.

(e) Unsafe Condition

This AD was prompted by a report that certain overheat detection system (OHDS) sensing elements may not properly detect thermal bleed leak events due to a quality escape during the manufacturing process. The FAA is issuing this AD to address undetected thermal bleed leak events that might not be isolated during flight, possibly resulting in localized areas of the wing structure being exposed to high temperatures and consequent reduced structural integrity of the airplane.

(f) Compliance

Comply with this AD within the compliance times specified, unless already done.

(g) Requirements

Except as specified in paragraph (h) of this AD: Comply with all required actions and compliance times specified in, and in accordance with, European Union Aviation Safety Agency (EASA) AD 2022-0031, dated February 25, 2022 (EASA AD 2022-0031).

(h) Exceptions to EASA AD 2022-0031

(1) Where EASA AD 2022-0031 refers to its effective date, this AD requires using the effective date of this AD.

(2) Where EASA AD 2022-0031 has a definition for “Affected part” and refers to “the VSB [vendor service bulletin]” for the part numbers and date codes, for this AD, use Kidde Aerospace & Defense Service Bulletin CFD-26-3, dated January 13, 2022, as “the VSB” for the part numbers and date codes.

(3) Where EASA AD 2022-0031 has a definition for “Groups” and identifies certain airplanes as Group 2 airplanes, replace the text, “An aeroplane having an MSN [manufacturer serial number] not listed in the Section 1.A of the SB is Group 2, provided it is determined that no affected part has been installed on any affected position of that aeroplane since Airbus date of manufacture” with “An aeroplane having an MSN not listed in the Section 1.A of Airbus Service Bulletin A350-36-P032, dated December 3, 2021, is Group 2, provided it is determined that no affected part has been installed on any affected position of that aeroplane since Airbus date of manufacture.”

(4) Where paragraphs (2) and (3) of EASA AD 2022-0031 require a detailed inspection of affected parts and applicable corrective actions, this AD does not require those actions, but allows performing those actions as terminating action for the revision of the operator's existing minimum equipment list (MEL) as specified in paragraph (5) of EASA AD 2022-0031.

(5) The “Remarks” section of EASA AD 2022-0031 does not apply to this AD.

(6) Where paragraph (1) of EASA 2022 0031 specifies to “inform all flight crews, and, thereafter, operate the aeroplane accordingly,” this AD does not require those actions as those actions are already required by existing FAA operating regulations.

(i) No Reporting Requirement and No Return of Parts

(1) Although the service information referenced in EASA AD 2022-0031 specifies to submit certain information to the manufacturer, this AD does not include that requirement.

(2) Although the service information referenced in EASA AD 2022-0031 specifies to return certain parts to the manufacturer, this AD does not include that requirement.

(j) Additional AD Provisions

The following provisions also apply to this AD:

(1) Alternative Methods of Compliance (AMOCs): The Manager, Large Aircraft Section, International Validation Branch, FAA, has the authority to approve AMOCs for this AD, if requested using the procedures found in 14 CFR 39.19. In accordance with 14 CFR 39.19, send your request to your principal inspector or responsible Flight Standards Office, as appropriate. If sending information directly to the Large Aircraft Section, International Validation Branch, send it to the attention of the person identified in paragraph (k) of this AD. Information may be emailed to: 9-AVS-AIR-730-AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, Large Aircraft Section, International Validation Branch, FAA; or EASA; or Airbus SAS's EASA Design Organization Approval (DOA). If approved by the DOA, the approval must include the DOA-authorized signature.

(3) Required for Compliance (RC): Except as required by paragraphs (i) and (j)(2) of this AD, if any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(k) Related Information

For more information about this AD, contact Dan Rodina, Aerospace Engineer, Large Aircraft Section, FAA, International Validation Branch, 2200 South 216th St., Des Moines, WA 98198; telephone 206-231-3225; email dan.rodina@faa.gov.

(l) Material Incorporated by Reference

(1) The Director of the Federal Register approved the incorporation by reference of the service information listed in this paragraph under 5 U.S.C. 552(a) and 1 CFR part 51.

(2) You must use this service information as applicable to do the actions required by this AD, unless this AD specifies otherwise.

(i) European Union Aviation Safety Agency (EASA) AD 2022-0031, dated February 25, 2022.

(ii) Kidde Aerospace & Defense Service Bulletin CFD-26-3, dated January 13, 2022.

(3) For EASA AD 2022-0031, contact EASA, Konrad-Adenauer-Ufer 3, 50668 Cologne, Germany; telephone +49 221 8999 000; email ADs@easa.europa.eu; internet www.easa.europa.eu. You may find this EASA AD on the EASA website at https://ad.easa.europa.eu.

(4) For Kidde Aerospace & Defense service information, contact Kidde Aerospace & Defense, 4200 Airport Drive NW, Building B, Wilson, NC 27896; telephone: 319-295-5000; internet: https://kiddetechnologies.com/aviation.com.

(5) You may view this material at the FAA, Airworthiness Products Section, Operational Safety Branch, 2200 South 216th St., Des Moines, WA. For information on the availability of this material at the FAA, call 206-231-3195.

(6) You may view this material that is incorporated by reference at the National Archives and Records Administration (NARA). For information on the availability of this material at NARA, email fr.inspection@nara.gov, or go to: https://www.archives.gov/federal-register/cfr/ibr-locations.html.

Issued on March 24, 2022.
Lance T. Gant,
Director, Compliance & Airworthiness Division, Aircraft Certification Service.

[FR Doc. 2022-07089 Filed 4-4-22; 8:45 am]

BILLING CODE 4910-13-P